INTERNATIONAL TRADE COMMISSION

[Investigation Nos. 731-TA-457 A-D (Fifth Review)]

Heavy Forged Hand Tools From China; Determinations

On the basis of the record ¹ developed in the subject five-year reviews, the United States International Trade Commission (“Commission”) determines, pursuant to the Tariff Act of 1930 (“the Act”), that revocation of each of the antidumping duty orders on heavy forged hand tools from China would be likely to lead to continuation or recurrence of material injury to an industry in the United States within a reasonably foreseeable time.

¹ The record is defined in § 207.2(f) of the Commission's Rules of Practice and Procedure (19 CFR 207.2(f)).

Background

The Commission instituted these reviews on December 1, 2021 (86 FR 68265) and determined on March 7, 2022 that it would conduct expedited reviews (87 FR 22577, April 15, 2022). The Commission made these determinations pursuant to section 751(c) of the Act (19 U.S.C. 1675(c)). It completed and filed its determinations in these reviews on May 20, 2022. The views of the Commission are contained in USITC Publication 5326 (May 2022), entitled Heavy Forged Hand Tools from China: Investigation Nos. 731-TA-457 A-D (Fifth Review).

By order of the Commission.
Issued: May 20, 2022.
Lisa Barton,
Secretary to the Commission.

[FR Doc. 2022-11283 Filed 5-25-22; 8:45 am]

BILLING CODE 7020-02-P